DEPARTMENT OF VETERANS AFFAIRS

[OMB Control No. 2900-NEW (VA Forms 10-10135, 10-10135a, 10-10135b, 10-10135c, 10-10135d, 10-10136, 10-10137)]

Proposed Information Collection (Patient Aligned Care Team (PACT) Telehealth in the Parkinson's Disease Research, Education & Clinical Center (PADRECC), Healthcare Experiences of Patients With Congestive Heart Failure (CHF)) Activity: Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each new collection, and allow 60 days for public comment in response to the notice. This notice solicits comments on the information needed to evaluate the project aims to enhance PACT implementation by providing education about the needs and experiences of “Operation Enduring Freedom” and “Operation Iraqi Freedom” (OEF/OIF) Veterans that is emotionally resonant and engaging to learners on a visceral level, as well as promoting a greater sense of alignment with VA's mission of providing patient-centered care.

DATES: Written comments and recommendations on the proposed collection of information should be received on or before March 30, 2015.

ADDRESSES: Submit written comments on the collection of information through Federal Docket Management System (FDMS) at www.Regulations.gov; or Audrey Revere, Office of Regulatory and Administrative Affairs, Veterans Health Administration (10B4), Department of Veterans Affairs, 810 Vermont Avenue NW., Washington, DC 20420 or email: Audrey.revere@va.gov. Please refer to “OMB Control No. 2900-NEW (PACT Telehealth in the PADRECC, Healthcare experiences of patients with CHF)” in any correspondence. During the comment period, comments may be viewed online through the FDMS.

FOR FURTHER INFORMATION CONTACT: Audrey Revere at (202) 461-5694.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: PACT Telehealth in the PADRECC, Healthcare Experiences of Patients with CHF, VA Forms 10-10135a, 10-10135b, 10-10135c, 10-10135d, 10-10136, 10-10137.

OMB Control Number: 2900-NEW.

Type of Review: New data collection.

Abstract The Office of Patient Care Services, Primary Care Program Office, has undertaken an initiative to implement a patient-centered medical home model at all Veterans Health Administration (VHA) Ambulatory Primary Care sites. In addition to the VHA's Universal Health Care Services implementation of the Patient Aligned Care Team (PACT), Patient Care Services has funded 5 PACT Demonstration Laboratories across the country.

Title: Focus Group Survey.

Affected Public: Individuals or households.

Estimated Annual Burden: 20 hours.

Estimated Average Burden per Respondent: 10 minutes.

Frequency of Response: Once annually.

Estimated Number of Respondents: 40.

Title: 10-10135a (GDS)

Affected Public: Individuals or households.

Estimated Annual Burden: 35 hours.

Estimated Average Burden per Respondent: 7 minutes.

Frequency of Response: Once annually.

Estimated Number of Respondents: 100.

Title: 10-10135b (PDQ-8).

Affected Public: Individuals or households.

Estimated Annual Burden: 35 hours.

Estimated Average Burden per Respondent: 7 minutes.

Frequency of Response: Once annually.

Estimated Number of Respondents: 100.

Title: 10-10135(c) Cost & Patient Outcomes.

Affected Public: Individuals or households.

Estimated Annual Burden: 35 hours.

Estimated Average Burden per Respondent: 7 minutes.

Frequency of Response: Once annually.

Estimated Number of Respondents: 100.

Title: 10135(d) Patient Assessment of Communication During Telehealth.

Affected Public: Individuals or households.

Estimated Annual Burden: 35 hours.

Estimated Average Burden per Respondent: 7 minutes.

Frequency of Response: Once annually.

Estimated Number of Respondents: 100.

Dated: January 22, 2015.
By direction of the Secretary.
Crystal Rennie,
Department Clearance Officer, Department of Veterans Affairs.

[FR Doc. 2015-01398 Filed 1-26-15; 8:45 am]

BILLING CODE 8320-01-P